DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by August 28, 2023 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Forest Service

Title: Wood Innovations Funding Opportunity Program.

OMB Control Number: 0596-0256.

Summary of Collection: USDA Forest Service is delivering the Wood Innovations Funding Opportunity (WIFO) to support the Agriculture Improvement Act of 2018 Public Law 115-334 Sec. 9013, Rural Revitalization Technologies 7 U.S.C. 8113, Infrastructure Investment and Jobs Act (Bipartisan Infrastructure Law) Public Law 117-58 Div. J Title VI, Inflation Reduction Act Public Law 117-169 SEC. 23002, and the nationwide challenge of disposing of hazardous fuels and other wood residues from the National Forest System and other U.S. forest lands in a manner that supports wood products and wood energy markets. The intent of the Wood Innovations Funding Opportunity is to stimulate, expand, and support U.S. wood products markets and wood energy markets to support the long-term management of National Forest System and other forest lands. According to 2 CFR part 200 and Forest Service Handbook 1509.11, chapter 20, prescribes administrative requirements and processes applicable to all Forest Service domestic and international Federal Financial Assistance awards to State and local governments, institutions of higher education, hospitals, private profit and nonprofit organizations, individuals, and foreign recipients.

Need and Use of the Information: Collection of this information is necessary to ascertain if applicants seeking financial assistance do in fact operate facilities in close proximity to a unit of federal or Indian land that has been identified as high or very high priority for ecological restoration.

Description of Respondents: Individuals and Households, Private Sector, State, Local or Tribal Government.

Number of Respondents: 118.

Frequency of Responses: Annually.

Total Burden Hours: 354.

Forest Service

Title: Community Wood Energy and Wood Innovation Program (CWEWIP).

OMB Control Number: 0596-0257.

Summary of Collection: USDA Forest Service is delivering the Community Wood Energy and Wood Innovation Program (CWEWIP) to support the Rural Revitalization Technologies 7 U.S.C. 8113 and Agriculture Improvement Act of 2018 Public Law 115-334 sec. 9013, and Infrastructure Investment and Jobs Act (Bipartisan Infrastructure Law) Public Law 117-58 Div. J Title VI which directly support the installation of thermally led community wood energy systems or development and expansion of innovative wood product facilities. The intent of the CWEWIP is to support forest health and stimulate local economies by expanding renewable wood energy use and innovative wood products manufacturing capacity. According to 2 CFR part 200 and Forest Service Handbook 1509.11, chapter 20, prescribes administrative requirements and processes applicable to all Forest Service domestic and international Federal Financial Assistance awards to State and local governments, institutions of higher education, hospitals, private profit and nonprofit organizations, individuals, and foreign recipients.

Need and Use of the Information: Information will be collected using electronic forms submitted by email to the respective Forest Service Regional Coordinator (see table with list of Regional Coordinators) in the Forest Service Region your State resides. No other forms of submitting applications for financial assistance will be accepted. Information will be used to evaluate eligibility and financial assistance need of applicants. In addition, the information collection will be used to produce maps illustrating where the projects will be implemented.

Description of Respondents: Individuals and Households, Private Sector, State, Local or Tribal Government.

Number of Respondents: 24.

Frequency of Responses: Annually.

Total Burden Hours: 72.

Levi S. Harrell,
Departmental Information Collection Clearance Officer.

[FR Doc. 2023-15929 Filed 7-26-23; 8:45 am]

BILLING CODE 3411-15-P